ENVIRONMENTAL PROTECTION AGENCY

[FRL-6715-6]

San Fernando Valley, Pollock Superfund Site; Proposed Notice of Administrative Settlement

AGENCY: Environmental Protection Agency (EPA).

ACTION: Notice; request for public comment

SUMMARY: In accordance with the Comprehensive Environmental Response, Compensation and Liability Act of 1980, as amended by the Superfund Amendments and Reauthorization Act of 1986 (“CERCLA”), 42 U.S.C. 9601 et seq., notice is hereby given that a proposed Agreement and Covenant Not to Sue associated with the San Fernando Valley Pollock Superfund was executed by EPA on April 7, 2000. The proposed Agreement and Covenant Not to Sue would resolve certain potential claims of the United States under sections 106 and 107 of CERCLA, 42 U.S.C. 9606 and 9607, against San Fernando Road Holdings, LLC. (the “Purchaser”). The Purchaser has acquired certain real property located at 3332-3340, 3360, 3368, 3370, 3380, 3424 and 3550 San Fernando Road in the City of Los Angeles, California (“the Property”). The Property consists of approximately 21.48 acres, which is improved with eight industrial warehouse buildings. The proposed settlement would require the Purchaser to pay EPA a one-time payment of $ 200,000, and to conduct cleanup activities at the Property under the direction of the Regional Water Quality Control Board—Los Angeles Region.

For thirty (30) calendar days following the date of publication of this notice, EPA will receive written comments relating to the proposed settlement. EPA's response to any comments received will be available for public inspection at the U.S. Environmental Protection Agency, 75 Hawthorne Street, San Francisco, CA 94105.

DATES: Comments must be submitted on or before July 17, 2000.

Availability

The proposed Agreement and Covenant Not to Sue and additional background documentation relating to the settlement are available for public inspection at the U.S. EPA, Region IX, 75 Hawthorne Street, San Francisco, CA, 94105. A copy of the proposed settlement may be obtained from Marie M. Rongone, Senior Counsel (ORC-3), Office of Regional Counsel, U.S. EPA Region IX, 75 Hawthorne Street, San Francisco, CA, 94105. Comments should reference “San Fernando Road Holdings, LLC Agreement and Covenant Not to Sue, San Fernando Valley Pollock Superfund Site,” and “Docket No. 2000-04” and should be addressed to Ms. Rongone at the above address.

FOR FURTHER INFORMATION CONTACT: Marie M. Rongone, Senior Counsel (ORC-3), Office of Regional Counsel, U.S. EPA Region IX, 75 Hawthorne Street, San Francisco, CA 94105; E-mail: rongone.marie@epamail.epa.gov; Phone: (415) 744-1313; Facsimile (415) 744-1041.

Dated: May 9, 2000.
Keith Takata,
Director, Superfund Division, U.S. EPA, Region IX.

[FR Doc. 00-15025 Filed 6-14-00; 8:45 am]

BILLING CODE 6560-50-P